DEPARTMENT OF COMMERCE

International Trade Administration

Announcement of May Through November 2019 International Trade Administration Trade Missions

AGENCY: International Trade Administration, Department of Commerce.

SUMMARY: The United States Department of Commerce, International Trade Administration (ITA) is announcing five upcoming trade missions that will be recruited, organized, and implemented by ITA. These missions are:

• Safety and Security Trade Mission to Nigeria and Kenya, with an optional stop in South Africa—May 21-31, 2019.

• Infrastructure Trade Mission to Mexico—June 16-21, 2019.

• Water Trade Mission to South Africa and Angola—July 6-16, 2019.

• The 12th Annual U.S. Industry Program at the International Atomic Energy Agency (IAEA) General Conference in Vienna, Austria—September 15-18, 2019.

• Clean Energy and Zero Emission Vehicle Technologies Business Development Mission to Mexico—November 17-22, 2019.

A summary of each mission is found below. Application information and more detailed mission information, including the commercial setting and sector information, can be found at the trade mission website: http://export.gov/trademissions.

For each mission, recruitment will be conducted in an open and public manner, including publication in the Federal Register, posting on the Commerce Department trade mission calendar (http://export.gov/trademissions) and other internet websites, press releases to general and trade media, direct mail, broadcast fax, notices by industry trade associations and other multiplier groups, and publicity at industry meetings, symposia, conferences, and trade shows.

FOR FURTHER INFORMATION CONTACT: Gemal Brangman, Trade Promotion Programs, Industry and Analysis, International Trade Administration, U.S. Department of Commerce, 1401 Constitution Avenue NW, Washington DC 20230; telephone (202) 482-3773.

The Following Conditions for Participation Will Be Used for Each Mission

Applicants must submit a completed and signed mission application and supplemental application materials, including adequate information on their products and/or services, primary market objectives, and goals for participation. If the Department of Commerce receives an incomplete application, the Department may either: Reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for all of the companies it seeks to represent on the mission.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for Each Mission

Targeted mission participants are U.S. firms, services providers and trade associations/organizations providing or promoting U.S. products and services that have an interest in entering or expanding their business in the mission's destination country. The following criteria will be evaluated in selecting participants:

• Suitability of the applicant's (or in the case of a trade association/organization, represented firm or service provider's) products or services to these markets;

• The applicant's (or in the case of a trade association/organization, represented firm or service provider's) potential for business in the markets, including likelihood of exports resulting from the mission; and

• Consistency of the applicant's (or in the case of a trade association/organization, represented firm or service provider's) goals and objectives with the stated scope of the mission.

Balance of company size and location may also be considered during the review process. Referrals from a political party or partisan political group or any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such visas will be the responsibility of the mission participant. Government fees and processing expenses to obtain such visas are not included in the participation fee. However, the Department of Commerce will provide instructions to each participant on the procedures required to obtain business visas. Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Definition of Small and Medium Sized Enterprise

For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

Mission List: (additional information about each mission can be found at http://export.gov/trademissions).

Safety & Security Trade Mission to Nigeria and Kenya (With an Optional Stop in Johannesburg, South Africa)

Dates: MAY 21-31, 2019.

Summary

The United States Department of Commerce, International Trade Administration (ITA) is organizing the first safety and security trade mission to Nigeria and Kenya (May 21-29th), with an optional stop in South Africa (May 30-31st). The purpose of this mission is to help U.S. firms in the safety and security industry find business partners and sell products and services in sub-Saharan Africa.

The mission will include stops in Lagos, Nigeria and Nairobi, Kenya, with an optional stop in Johannesburg, South Africa. Participating firms will gain market insights, make industry contacts, solidify business strategies, and advance specific projects, with the goal of increasing U.S. exports of products and services to Africa. The mission will include customized one-on-one business appointments with pre-screened potential buyers, agents, distributors and joint venture partners; meetings with state and local government officials and industry leaders; and networking events.

For the Nigeria leg of the trade mission, companies will have the opportunity to participate in the USA Fair, a 2-day conference and exhibition followed by a 1-day appreciation and recognition award ceremony, the Networking with the U.S.A. or “NUSA” awards. As background, NUSA is a self-select platform that enables the U.S. Commercial Service in Nigeria to carry out background checks and screen interested Nigerian businesses for probable enlistment in our database for client management with U.S firms looking to engage with local partners.

Proposed Timetable
Day/date | Planned schedule of activities
Day 1, Tue, May 21st | • Travel to Nigeria (all participants).
| • Personal/recovery time.
| • Cultural welcome dinner (TBD).
Day 2, Wed, May 22nd | • Welcome and Country Briefing.
| • Regional Briefings.
| • One-on-One business matchmaking appointments.
| • N-USA (Nigeria—USA) Reception.
Day 3, Thurs, May 23rd | • Participation at N-USA (Nigeria—USA).
Day 4, Fri, May 24th | • One-on-One business matchmaking appointments.
| • Networking reception at Ambassador's residence (TBC).
Day 5, Sat, May 25th | • Travel to Kenya.
| • Evening welcome reception and country briefing.
Day 6, Sun, May 26th | • Free Day.
Day 7, Mon, May 27th | • One-on-One business matchmaking appointments.
| • Networking lunch/additional market briefings.
| • One-on-One business matchmaking appointments.
| • Networking reception at Ambassador's residence (TBC).
Day 8, Tue, May 28th | • Visit to government ministry.
| • One-on-One business matchmaking appointments.
| • Networking reception (mission wrap-up).
Day 9, Wed, May 29 | • Travel to South Africa (optional stop for participants).
| • Personal/recovery time.
Day 10, Thurs, May 30th | • Welcome and Country Briefing (South Africa).
| • One-on-One business matchmaking appointments.
Day 11, Fri, May 31st | • One-on-One business matchmaking appointments.
| • Networking (mission wrap-up).
Day 12, Sat, June 1st | • Cultural event/visit to wildlife reserve (optional).
Day 13, Sun, June 2nd | • Return home (all participants).

Participation Requirements

All parties interested in participating in the trade mission must complete and submit an application package for consideration by the DOC. All applicants will be evaluated on their ability to meet certain conditions and best satisfy the selection criteria. A minimum of 12 and maximum of 20 firms and/or trade associations will be selected to participate in the mission from the applicant pool.

Fees and Expenses

After a firm or trade association has been selected to participate on the mission, a payment to DOC in the form of a participation fee is required.

• The total participation fee for the trade mission with stops in Kenya and Nigeria is $5150 for a large firm and includes participation in the N-USA Fair.

• The total fee per participant for the trade mission with stops in Kenya and Nigeria is $3725 for a small or medium-sized enterprise (SME) and includes participation in the N-USA Fair.

• The fee for each additional firm participant (a large firm or SME) in the trade mission is $1000 (stops in Kenya and Nigeria).

• The participation fee for the optional stop in South Africa is $1,100 for a large firm and $837.00 for a SME.

• The fee for each additional firm participant (a large firm or SME) for the optional stop in South Africa is $750.00.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than April 15, 2019. The U.S. Department of Commerce will review applications and make selection decisions on a rolling basis. Applications received after close of business on April 15, 2019. will be considered only if space and scheduling constraints permit.

Contacts

Mathew Woodlee, Global Safety & Security Industry Team Leader, U.S. Commercial Service—Minneapolis, MN, U.S. Department of Commerce, 330 2nd Avenue South, Suite 410, Minneapolis, MN 55401, Tel: 612-348-1640, Mathew.Woodlee@trade.gov

Tatyana Aguirre, Global Safety & Security Deputy Team Leader, U.S. Department of Commerce, 2302 Martin, Suite 315, Irvine, CA 92712, Tel: 949-660-1410, Tatyana.Aguirre@trade.gov

Anthony Adesina, Commercial Specialist, (Aviation, Defense, Education, Safety & Security), Global Safety & Security Industry Team Member, U.S. Commercial Service, U.S. Consulate General, 2, Walter Carrington Crescent, Victoria Island, Lagos, Nigeria, Tel: +234-1-4603465, Email: Anthony.Adesina@trade.gov

Johan van Rensburg, Senior Commercial Specialist, US Embassy, Commercial Section, Johannesburg, South Africa, Tel: (+27) 011-290-3208, Fax: (+27) 011-884-0253, Cell: (+083) 617-0340, Email: Johan.vanRensburg@trade.gov

Infrastructure Trade Mission to Mexico

Dates:June 16-21, 2019.

Summary

The United States Department of Commerce, International Trade Administration, is organizing a trade mission to Mexico to be held in Mexico City, Guadalajara, and Monterrey on June 16-21, 2019.

The trade mission will focus on sustainable building products, materials, technology, and software to improve the quality and sustainability of major infrastructure and construction projects in Mexico.

Participant companies will attend a U.S. and Mexico Infrastructure Conference in Mexico City on June 16-17 and will have a market briefing and targeted business-to-business (B2B) matchmaking appointments in up to three cities. The conference and meeting schedule will give participants access to substantive information about—and contacts for—navigating the infrastructure procurement process in Mexico, including direct interaction on project financing resources from The Export-Import Bank of the United States (Ex-Im Bank), the Overseas Private Investment Corporation (OPIC), and the U.S. Trade and Development Agency (TDA). The conference will introduce U.S. firms to Mexico's major infrastructure projects and highlight opportunities for U.S. prime contractors, sub-contractors, and suppliers in the infrastructure sectors. U.S. Participants have the option to participate in two additional mission stops in Guadalajara and/or Monterrey.

Proposed Timetable
June 16, 2019 | Travel Day/Arrival in Mexico City. Afternoon: Registration, Market Briefing and USG Resource Consultations.
June 17, 2019 | Mexico City. Morning: Conference Plenary, Panels on Industry Trends, Resources, and Sector-Specific Projects. Afternoon: Luncheon and B2B Meetings. Evening: Networking Reception.
June 18, 2019 | Mexico City. B2B Meetings (and Onward Travel if Participating in Optional Cities).
Optional
June 19-21, 2019 | Travel and Business-to-Business Meetings in choice of two cities: Option (A) Guadalajara. Option (B) Monterrey. Option (C) Both Guadalajara and Monterrey.
June 22, 2019 | Travel Day. Return to USA.

Participation Requirements

A minimum of 10 and a maximum of 20 companies will be selected to participate in the mission. The Department of Commerce will evaluate applications and inform applicants of selection decisions on a rolling basis until the maximum number of participants has been selected. During the registration process, applicants will indicate their markets/cities of choice and will receive a brief market assessment for each of those markets/cities. Applicants can select up to three markets based on the selection criteria above and the participation limits to follow. A total of 20 companies may be selected for Mexico City. Up to five companies may request and be selected for Guadalajara and/or Monterrey. U.S. companies already doing business in Mexico or seeking to enter this market for the first time may apply.

Fees and Expenses

After a company has been selected to participate in the mission, a payment to the Department of Commerce in the form of a participation fee is required.

For the conference and business-to-business meetings in Mexico City, the participation fee will be $1,950 for a small or medium-sized enterprise (SME) and $3,600 for large firms.

For business-to-business meetings in two markets/cities (Mexico City plus Guadalajara or Monterrey), the participation fee will be $3,975 for a small or medium-sized enterprise (SME) and $7,000 for large firms.

For business-to-business meetings in three markets/cities (Mexico City plus Guadalajara and Monterrey), the participation fee will be $6,000 for a small or medium-sized enterprise (SME) and $9,980 for large firms.

The mission participation fee includes the U.S. and Mexico Infrastructure Conference registration fee exclusively discounted for mission participants of $150 per primary participant from each firm.

There will be a $300 fee for each additional firm representative (large firm or SME) that wishes to participate in business-to-business meetings for each of the markets/cities selected. Additional representatives participating in the mission who wish to attend the conference will be charged the discounted registration fee of $150 available to mission participants.

Timeframe for Recruitment and Application

Mission recruitment will be conducted in an open and public manner, including publication in the Federal Register, posting on the Commerce Department trade mission calendar on www.export.gov, the Trade Americas web page at http://export.gov/tradeamericas/index.asp, and other internet websites, press releases to the general and trade media, direct mail and broadcast fax, notices by industry trade associations and other multiplier groups, and announcements at industry meetings, symposia, conferences, and trade shows.

Recruitment for the mission will begin immediately and conclude no later than Friday, April 5, 2019. The U.S. Department of Commerce will review applications and make selection decisions on a rolling basis until the maximum of 20 participants is selected. After April 5, 2019, companies will be considered only if space and scheduling constraints permit.

Contacts

U.S. Trade Americas Team Contact Information

Diego Gattesco, Director, U.S. Commercial Service—Wheeling, WV, Diego.Gattesco@trade.gov, Tel: 304-243-5493

Steven Murray, Senior International Trade Specialist, U.S. Commercial Service—Pittsburgh, PA Steven.Murray@trade.gov, Tel: 412-644-2819

Global Design & Construction Team Contact Information

Matt Baker, Director, U.S. Commercial Service—Fort Worth, TX, Matt.Baker@trade.gov, Tel: 817-701-6350

U.S. Commercial Service Mexico Contact Information

Paul Oliva, Commercial Officer, U.S. Commercial Service—U.S. Embassy, Mexico City, Mexico, Paul.Oliva@trade.gov

Adrian Orta, Commercial Specialist, U.S. Commercial Service—U.S. Embassy, Mexico City, Mexico, Adrian.Orta@trade.gov

U.S. Department of Commerce Water Trade Mission to South Africa and Angola

Date: July 6-16, 2019.

Summary

“The U.S. Department of Commerce is organizing a Water Trade Mission (WTM) to Johannesburg and Cape Town, with an optional stop in Angola in July 2019.

This mission will include representatives from a variety of U.S. environmental technologies-industry manufacturers and service providers, specifically with a concentration in the water and wastewater technologies subsector. The mission participants will be introduced to government officials, end-users, and customers whose needs are targeted to each participant's product or service offering. Mission participants will also be briefed by key local industry leaders on local market conditions and opportunities in the various regions of South Africa and Angola.

The goals of the Water Trade Mission to Africa are:

1. Provide market access to U.S. water and wastewater companies, especially small- and medium-sized enterprises new to the market in Africa or seeking to expand their current activities;

2. Facilitate timely connections between the government of South Africa and U.S. water technology innovators in order to address South Africa's serious water shortage, resulting in both relief for South Africa and business connections, and exports for U.S. companies;

3. Cooperate with IFAT Africa (the leading environmental technology trade fair in sub-Saharan Africa focusing on water, sewage, waste and recycling) to maximize connections between mission participants and opportunities in the water technologies subsector not limited to South Africa or Angola, but rather throughout all of Africa;

Schedule

Note: The final schedule and potential site visits will depend on the availability of host government and business officials, specific goals of mission participants, and ground transportation.

Saturday, July 6 | • Trade Mission Participants depart for Johannesburg.
Sunday, July 7 | • Trade Mission Participants arrive in Johannesburg. • Hotel Check-in.
Monday, July 8 | • Country Briefing. • One-on-One business matchmaking appointments. • Networking Lunch. • One-on-One business matchmaking appointments. • Networking Reception at Consulate General's residence (TBC).
Tuesday, July 9 | • Participation in IFAT show. • One-on-One business matchmaking appointments.
Wednesday, July 10 | • Participation in IFAT show. • One-on-One business matchmaking appointments.
Thursday, July 11 | • Participation in IFAT show. • Afternoon travel to Cape Town.
Friday, July 12 | • One-on-One business matchmaking appointments. • Networking Lunch. • One-on-One business matchmaking appointments. • Evening on own.
Saturday, July 13 | • Attendees wishing to travel to Angola depart for Angola; all others return home.
Sunday, July 14 | • Sunday on own. • Welcome briefing.
Monday, July 15 | • One-on-One business matchmaking appointments. • Networking Lunch. • One-on-One business matchmaking appointments. • Networking Reception at Ambassador's residence (TBC).
Tuesday, July 16 | • Mission ends; attendees depart for home.

Participation Requirements

Applicants must sign and submit a completed Trade Mission application form and satisfy all of the conditions of participation in order to be eligible for consideration. Applications will be evaluated on the applicant's ability to best satisfy the selection criteria. A minimum of 10 and maximum of 15 firms and/or trade associations will be selected to participate in the mission from the applicant pool.

Fees and Expenses

After a firm or trade association has been selected to participate on the mission, a payment to the Department of Commerce in the form of a participation fee is required. The participation fee for the Water Trade Mission to South Africa only will be $3,200 for small or medium-sized enterprises (SME); and $4,100 for large firms or trade associations. Participation in the South Africa portion includes admission to the IFAT Africa event in Johannesburg. If a firm wishes to travel to the optional Angola stop, an SME will pay an additional $1,200 for a total of $4,400 and a large firm will pay an additional $2,000 for a total of $6,100. The fee for each additional firm representative (large firm or SME/trade association) is $1,000. Expenses for travel, lodging, meals, and incidentals will be the responsibility of each mission participant unless otherwise noted. Interpreter and driver services can be arranged for additional cost. Delegation members can take advantage of U.S. Embassy rates for hotel rooms.

Timeline for Recruitment

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than May 3, 2019. The U.S. Department of Commerce will review applications and inform applicants of selection decisions periodically during the recruitment period. All applications received after the evaluation date will be considered at the next evaluation. Applications received after May 3, 2019 will be considered if space/scheduling constraints permit.

Contacts

Pamela Kirkland, Project Officer, U.S. Department of Commerce, Washington, DC, Tel: 202-482-3587, pamela.kirkland@trade.gov

Christine Kelley, Commercial Officer, U.S. Export Assistance Center, Seattle, Washington, Tel: 206-553-5615x234, Christine.kelley@trade.gov

Elizabeth Laxague, International Trade Specialist, U.S. Export Assistance Center, Milwaukee, Wisconsin, Tel: 414-336-1953, Elizabeth.Laxague@trade.gov

Glen Roberts, U.S. Export Assistance Center, Fresno, California, Tel: 559-348-1398, Glen.roberts@trade.gov

Rhonda Sinkfield, Commercial Attaché, U.S. Embassy—South Africa, rhonda.sinkfield@trade.gov.

Everett Wakai, Commercial Attaché, U.S. Embassy—Angola, Tel: +244-222-641-000 ext. 1603, everett.wakai@trade.gov.

12th Annual U.S. Industry Program at the International Atomic Energy Agency (IAEA) General Conference in Vienna, Austria

Date: September 15-18, 2019.

Summary

The United States Department of Commerce's (DOC) International Trade Administration (ITA), with participation from the U.S. Departments of Energy and State, is organizing the 12th Annual U.S. Industry Program at the International Atomic Energy Agency (IAEA) General Conference, to be held September 15-18, 2019, in Vienna, Austria. The IAEA General Conference is the premier global meeting of civil nuclear policymakers and typically attracts senior officials and industry representatives from all 170 Member States. The U.S. Industry Program is part of the U.S. Department of Commerce's (DOC) Civil Nuclear Trade Initiative, a U.S. Government effort to help U.S. civil nuclear companies identify and capitalize on commercial civil nuclear opportunities around the world. The purpose of the program is to help the U.S. nuclear industry promote its services and technologies to an international audience, including senior energy policymakers from current and emerging markets as well as IAEA staff.

Representatives of U.S. companies from across the U.S. civil nuclear supply chain are eligible to participate. In addition, organizations providing related services to the industry, such as universities, research institutions, and U.S. civil nuclear trade associations, are eligible for participation. The mission will help U.S. participants gain market insights, make industry contacts, solidify business strategies, and identify or advance specific projects with the goal of increasing U.S. civil nuclear exports to a wide variety of countries interested in nuclear energy.

The schedule includes: Meetings with foreign delegations and discussions with senior U.S. Government officials on important civil nuclear topics including regulatory, technology and standards, liability, public acceptance, export controls, financing, infrastructure development, and R&D cooperation. Past U.S. Industry Programs have included participation by the U.S. Secretary of Energy, the Chairman of the U.S. Nuclear Regulatory Commission (NRC) and senior U.S. Government officials from the Departments of Commerce, Energy, State, the Export-Import Bank of the United States and the National Security Council.

There are significant opportunities for U.S. businesses in the global civil nuclear energy market. With 55 reactors currently under construction in 15 countries and 160 nuclear plant projects planned in 27 countries over the next 8-10 years, this translates to a market demand for equipment and services totaling $500-740 billion over the next ten years. This mission contributes to DOC's Civil Nuclear Trade Initiative by assisting U.S. businesses in entering or expanding in international markets.

Proposed Timetable
**** Note that specific events and meeting times have yet to be confirmed ****
Sunday, September 15
3:00 p.m.-5:00 p.m. | 1-1 Showtime Meetings with visiting ITA Staff.
6:00 p.m.-8:00 p.m. | U.S. Industry Welcome Reception.
Monday, September 16
7:00 a.m. | Industry Program Breakfast Begins.
8:00-9:45 a.m. | U.S. Policymakers Roundtable.
9:45-10:00 a.m. | Break.
10:00-11:00 a.m. | USG Dialogue with Industry.
11:00 a.m.-6:00 p.m. | IAEA Side Events.
11:00 a.m.-12:30 p.m. | Break.
12:30-6:00 p.m. | Country Briefings for Industry Delegation (presented by foreign delegates).
7:30-9:30 p.m. | U.S. Mission to the IAEA Reception.
Tuesday, September 17
9:00 a.m.-6:00 p.m. | Country Briefings for Industry (presented by foreign delegates).
10:00 a.m.-6:00 p.m. | IAEA Side Event Meetings.
Wednesday, September 18
9:00 a.m.-6:00 p.m. | Country Briefings for Industry (presented by foreign delegates).
10:00 a.m.-6:00 p.m. | IAEA Side Event Meetings.

Participation Requirements

Applicants must sign and submit a completed Trade Mission application form and satisfy all of the conditions of participation in order to be eligible for consideration. Applications will be evaluated on the applicant's ability to best satisfy the selection criteria. A minimum of 15 and maximum of 50 companies and/or trade associations and/or U.S. academic and research institutions will be selected to participate in the mission. The first fifteen applicants accepted will be permitted to send two representatives per organization (if desired). After the first fifteen applicants, additional representatives will be permitted only if space is available. The Department of Commerce will begin evaluating applications and inform applicants of selection decisions on a rolling basis until the maximum number of participants has been selected.

Fees and Expenses

After a company or organization has been selected to participate on the mission, a payment to the DOC in the form of a participation fee is required. The fee covers ITA support to register U.S. industry participants for the IAEA General Conference. Participants will be able to take advantage of discounted rates for hotel rooms.

• The fee to participate in the event is $4,800 for a large company and $3,800 for a small or medium-sized company (SME), a trade association, or a U.S. university or research institution. The fee for each additional representative (large company, trade association, university/research institution, or SME) is $1,400.

Participants selected for the Trade Mission will be expected to pay for the cost of all personal expenses, including, but not limited to, international travel, lodging, meals, transportation, communication, and incidentals, unless otherwise noted. In the event that the mission is cancelled, no personal expenses paid in anticipation of a Trade Mission will be reimbursed. However, participation fees for a cancelled Trade Mission will be reimbursed to the extent they have not already been expended in the anticipation of the Mission.

Timeframe for Recruitment and Application

Recruitment for participation in the U.S. Industry Program as a representative of the U.S. civil nuclear industry will be conducted in an open and public manner, including publication in the Federal Register, posting on the DOC trade mission calendar, notices to industry trade associations and other multiplier groups. Recruitment will begin after publication in the Federal Register and conclude no later than July 19, 2019. The ITA will review applications and make selection decisions on a rolling basis. Applications received after July 19, 2019, will be considered only if space and scheduling permit.

Contacts

Jonathan Chesebro, Industry & Analysis, Office of Energy and Environmental Industries, Washington, DC, Tel: (202) 482-1297, Email: jonathan.chesebro@trade.gov.

Devin Horne, Industry & Analysis, Office of Energy and Environmental Industries, Washington, DC, Tel: (202) 482-0775, Email: devin.horne@trade.gov.

Clean Energy and Zero Emission Vehicle Technologies Trade Mission to Mexico

Dates: November 17-22, 2019.

Summary

The United States Department of Commerce, International Trade Administration (ITA), is organizing a Clean Energy and Zero Emission Vehicle Technologies Business Development Mission to Mexico City, the State of Mexico and Puebla.

This trade mission will expand business opportunities for U.S. exporters of clean energy products, services and technologies, by introducing them to Mexican automakers (OEMs), tier 1 and 2 suppliers, and relevant government agencies.

The incoming Mexico City government supports mobility initiatives, such as the replacement of private and public transportation, including taxi fleets, to drastically reduce emissions in the city. Moreover, the current Mexico City government has exempted electric and hybrid vehicles from local taxes and emission control verification processes. As a result, there is stronger potential to sell zero emission vehicles. In 2017, electric and hybrid vehicles sales grew 27.3 percent compared to 2016, reaching over 10,000 units sold.

Mexico has established a goal to reduce greenhouse gas emissions by 30 percent by the end of the decade, which will have a significant impact on manufacturing, including in the auto sector. In addition, Mexico intends to increase electricity generated from clean sources to 35 percent by 2024 and 50 percent by 2050. The responsibility for generating clean energy belongs to the participants in the electricity market (large consumers of electricity) and the Clean Energy Certificate (CEL) mechanism became mandatory for industrial and commercial users in 2018.

Automotive OEMs and tier 1 and 2 suppliers are increasingly interested in sustainable technologies, products and services for the manufacturing of electric and hybrid vehicles. The new U.S.-Mexico-Canada Agreement (USMCA) also is expected to foster additional opportunities for U.S. exports of components and parts by increasing the regional value content required to benefit from the tariff preferences. These factors contribute to the opening of a broader range of business opportunities in the Mexican market for U.S. exporters of clean energy technologies such as energy storage and efficiency, batteries, catalyzers, and electric chargers.

Moreover, automotive manufacturers are interested in investing in renewable energy generation technologies to lower the cost of their electricity consumption, comply with federal law, and be consistent with clean manufacturing best practices in the production of low-emissions vehicles and auto parts.

Proposed Timetable
Sunday, November 17 | • Trade mission participants arrive in Mexico City. • Welcome and country briefing. • Clean energy briefing. • Automotive briefing. • Q&A session.
Monday, November 18 | • Seminar (morning). • Energy speaker. • Automotive speaker. • Roundtables (3 sessions). • Clean energy roundtable. • Automotive roundtable. • Standards roundtable. • Seminar (lunch). • Carmaker plant visit. • Carmaker one-on-one business matchmaking appointments. • Networking reception at Ambassador's residence or hotel (TBD).
Tuesday, November 19 | • One-on-one business matchmaking appointments in Mexico City and State of Mexico. • Lunch. • Depart by bus to Puebla State.
Wednesday, November 20 | • Wind or solar project plant visit by bus. • Automotive tier plant visit. • One-on-one business matchmaking appointments in Puebla (hotel).
Thursday, November 21 | • One-on-one business matchmaking appointments in Puebla. • Lunch. • Carmaker plant visit in Puebla.
Friday, November 22 | • Trade mission participants depart.

Participation Requirements

Applicants must sign and submit a completed Trade Mission application form and satisfy all of the conditions of participation in order to be eligible for consideration. Applications will be evaluated on the applicant's ability to best satisfy the selection criteria. A minimum of 15 and maximum of 20 firms will be selected to participate in the mission from the applicant pool.

Fees and Expenses

After a firm has been selected to participate on the mission, a payment to the U.S. Department of Commerce in the form of a participation fee is required. The participation fee for the Business Development Mission will be $4,064.05 for SME and $5,591.71 for large firms (Mexico City including State of Mexico and Puebla). The fee for each additional firm representative (large firm or SME) is $1,000.00. Expenses for travel, lodging, meals, and incidentals will be the responsibility of each mission participant. Interpreter and driver services can be arranged for additional cost.

Timeframe for Recruitment and Application

Mission recruitment will be conducted in an open and public manner, including publication in the Federal Register, posting on the U.S. Department of Commerce trade mission calendar (http://export.gov/trademissions) and other internet websites, press releases to general and trade media, direct mail, notices by industry trade associations and other multiplier groups, and publicity at industry meetings, symposia, conferences, and trade shows. Recruitment for the mission will begin immediately and conclude no later than March 31, 2019. The U.S. Department of Commerce will review applications and inform applicants of selection decisions periodically during the recruitment period beginning immediately. All applications received subsequent to an evaluation date will be considered at the next evaluation. Applications received after April 1, 2019, will be considered only if space and scheduling constraints permit.

Contacts

Braeden Young, Commercial Officer, U.S. Embassy—Mexico, U.S. Department of Commerce, Tel: 55-5080-2182, Braeden.Young@trade.gov.

Claudia Salgado, Commercial Specialist, U.S. Embassy—Mexico, U.S. Department of Commerce, Tel: 55-5080-2000 x5224, Claudia.Salgado@trade.gov.

Monica Martinez, Commercial Specialist, U.S. Embassy—Mexico, U.S. Department of Commerce, Tel: 55-5080-2000 x5218, Monica.Martinez@trade.gov.

Tiara Hampton-Diggs,
Program Specialist, Trade Promotion Programs.

[FR Doc. 2019-07008 Filed 4-8-19; 8:45 am]

BILLING CODE 3510-DR-P